DEPARTMENT OF THE TREASURY

Internal Revenue Service

Enrollment Program Advisory Committee

AGENCY: Internal Revenue Service, (IRS), Treasury.

ACTION: Notice.

SUMMARY: The Director of the Office of Professional Responsibility gives notice of the renewal of the Enrollment Program Advisory Committee. As of January 8, 2003, the newly created Office of Professional Responsibility replaced the former Office of the Director of Practice. The Director of the Office of Professional Responsibility exercises the authority of the former Director of Practice.

FOR FURTHER INFORMATION CONTACT: Michael Hahn, Enrollment Program Advisory Committee, 202-694-1823.

SUPPLEMENTARY INFORMATION: In accordance with 41 CFR 101-6.1015(a)(1), the Director of the Office of Professional Responsibility hereby gives notice of the renewal of the Enrollment Program Advisory Committee (“EPAC”), which was formerly known as the “Special Enrollment Examination Advisory Committee.” The EPAC has been renewed under the authority of section 14(a)(2)(A) of the Federal Advisory Committee Act, 5 U.S.C. App.

Section 330 of 31 U.S.C. authorizes the Secretary of the Treasury to require that representatives before the Department demonstrate their “competency to advise and assist persons in presenting their cases.” Pursuant to that statute, the Secretary has promulgated the regulations governing practice before the IRS, which are found at 31 CFR part 10, and are separately published in pamphlet form as Treasury Department Circular No. 230 (to order call 1-800-829-3676).

The regulations provide that enrolled agents are among the classes of individuals eligible to practice before the IRS. The Director of the Office of Professional Responsibility is also authorized to pass upon applications for enrollment and to grant enrollment to applicants who demonstrate special competence in tax matters by written examination administered by the IRS. This written examination is the Special Enrollment Examination (SEE).

The primary purpose of the Committee is to advise the Office of Professional Responsibility on the SEE. The Committee's advisory functions will include, but will not necessarily be limited to: (1) Identifying Federal tax services sought by taxpayers, identifying the knowledge that would permit enrolled agents to provide such services, and developing examination topics and questions that will test for such knowledge; (2) recommending completed examinations for use—in the SEE Program; and (3) reviewing the work product of any organization authorized by contract or otherwise to write, compile, administer and grade the SEE, report the scores to SEE candidates, and provide advice thereon to the Director.

Dated: August 1, 2003.
Brien T. Downing,
Director, Office of Professional Responsibility.

[FR Doc. 03-20292 Filed 8-7-03; 8:45 am]

BILLING CODE 4830-01-P